EXPORT-IMPORT BANK

[Public Notice 2016-3021]

Agency Information Collection Activities: Comment Request

AGENCY: Export-Import Bank of the United States.

ACTION: Submission for OMB review and comments request.

Form Title: EIB 10-06 Application for Approved Finance Provider.

SUMMARY: The Export-Import Bank of the United States (Ex-Im Bank), as part of its continuing effort to reduce paperwork and respondent burden, invites the general public and other Federal Agencies to comment on the proposed information collection, as required by the Paperwork Reduction Act of 1995.

Financial institutions interested in becoming an Approved Finance Provider (AFP) with EXIM Bank must complete this application in order to obtain approval to make loans under EXIM Bank insurance policies and/or enter into one or more Master Guarantee Agreements (MGA) with EXIM Bank. An AFP may participate in the Medium-Term Insurance, Bank Letter of Credit, and Financial Institution Buyer Credit programs as an insured lender, while AFPs approved for an MGA may apply for multiple loan or lease transactions to be guaranteed by EXIM Bank.

EXIM Bank uses the information provided in the form and the supplemental information required to be submitted with the form to determine whether the lender qualifies to participate in its lender insurance and guarantee programs. The details are necessary to evaluate whether the lender has the capital to fund potential transactions, proper due diligence procedures, and the monitoring capacity to carry out transactions.

The information collection tool can be reviewed at: http://exim.gov/sites/default/files/pub/pending/eib10_06.pdf.

DATES: Comments must be received on or before June 13, 2016 to be assured of consideration.

ADDRESSES: Comments may be submitted electronically on WWW.REGULATIONS.GOV or by mail to Office of Information and Regulatory Affairs, 725 17th Street NW., Washington, DC 20038 Attn: OMB 3048-0032.

SUPPLEMENTARY INFORMATION: Title and Form Number: EIB 10-06 Application for Approved Finance Provider.

OMB Number: 3048-0032.

Type of Review: Regular.

Need and Use: The information collected will allow EXIM Bank to determine compliance and content for transaction requests submitted to the Export-Import Bank under its insurance, guarantee, and direct loan programs.

Affected Public

This form affects entities involved in the export of U.S. goods and services.

Annual Number of Respondents: 50.

Estimated Time per Respondent: 30 minutes.

Annual Burden Hours: 25 hours.

Frequency of Reporting of Use: As required.

Government Expenses

Reviewing time per year: 25 hours.

Average Wages per Hour: $42.50.

Average Cost per Year (time*wages): $1,062.50.

Benefits and Overhead: 20%.

Total Government Cost: $1,275.

Bonita Jones-McNeil,
Program Analyst, Agency Clearance Officer, Office of the Chief Information Officer.

[FR Doc. 2016-11340 Filed 5-12-16; 8:45 am]

BILLING CODE 6690-01-P